ELECTION ASSISTANCE COMMISSION

Technical Guidelines Development Committee; Meeting

AGENCY: U.S. Election Assistance Commission.

ACTION: Notice of conference call meeting.

DATES: Wednesday, December 18, 2019, 2:00-4:00 p.m. (EDT).

ADDRESSES: EAC Technical Guidelines Development Committee Conference Call.

To Listen and Monitor the Event as an Attendee

1. Go to: https://zoom.us/j/917491464.

2. Enter Meeting ID: 917 491 464, Password: TGDC1219.

One tap mobile

+16699006833,,917491464# US (San Jose)

+19292056099,,917491464# US (New York)

Dial by your location

+1 669 900 6833 US (San Jose)

+1 929 205 6099 US (New York)

877 853 5247 US Toll-free

888 788 0099 US Toll-free

Meeting ID: 917 491 464.

Find your local number: https://zoom.us/u/aev3sFIp8Q. For assistance: Contact the host, Steve Uyak at suyak@eac.gov.

Purpose: In accordance with the Federal Advisory Committee Act (FACA), Public Law 92-463, as amended (5 U.S.C. Appendix 2), the U.S. Election Assistance Commission (EAC) Technical Guidelines Development Committee will conduct a conference call to discuss NIST recommendations and feedback.

Agenda: The Technical Guidelines Development Committee (TGDC) will discuss NIST recommendations and feedback from November meeting.

FOR FURTHER INFORMATION CONTACT: Bert Benavides, Telephone: (301) 563-3937.

SUPPLEMENTARY INFORMATION: Members of the public may submit relevant written statements to the Technical Guidelines Development Committee with respect to the meeting no later than 10:00 a.m. EDT on Wednesday, December 18, 2019. Statements may be sent via email to facaboards@eac.gov, via standard mail addressed to the U.S. Election Assistance Commission, 1335 East West Highway, Suite 4300, Silver Spring, MD 20910, or by fax at 301-734-3108.

This conference call will be open to the public.

Nichelle S. Williams,
Director of Research, U.S. Election Assistance Commission.

[FR Doc. 2019-26187 Filed 12-6-19; 8:45 am]

BILLING CODE 6820-KF-P